DEPARTMENT OF THE INTERIOR

Geological Survey

Interim Steering Committee for the National Climate Change and Wildlife Science Center

AGENCY: U.S. Geological Survey, Interior.

ACTION: Notice of open public meeting.

SUMMARY: Pursuant to Public Law 106-503, the Interim Steering Committee for the National Climate Change and Wildlife Science Center will hold a meeting to discuss priority wildlife climate change research needs of land management and natural resources agencies. Agenda topics will be provided under the SUPPLEMENTARY INFORMATION section of this notice. Meetings of the Interim Steering Committee for the National Climate Change and Wildlife Science Center are open to the public.

ADDRESSES: The meeting location is Main Interior Building, Department of the Interior 1849 C Street, NW., Washington, DC 20240, North Penthouse, 7th floor.

DATES: August 14, 2008, commencing at 9:15 a.m. and adjourning at 12 p.m.

FOR FURTHER INFORMATION CONTACT: Dr. Robin P. White, U.S. Geological Survey, 12201 Sunrise Valley Drive, Reston, Virginia 20192, 304-724-4503, Rpwhite@usgs.gov.

SUPPLEMENTARY INFORMATION: The National Climate Change and Wildlife Science Center Interim Steering Committee is comprised of members from Federal and State government. The Interim Steering Committee shall advise the Director of the U.S. Geological Survey (USGS) on matters relating to the development of the National Climate Change and Wildlife Science Center.

Matters To Be Considered: The meeting will begin with Federal, State and non-governmental organizations provided an opportunity to outline priority wildlife climate change research needs. The committee will discuss and identify common themes and unique needs for support of land and resource management agencies. The meeting will conclude with identification of next steps for implementation of the National Climate Change and Wildlife Science Center.

Dated: July 25, 2008.
Sue Haseltine,
Associate Director for Biology.

[FR Doc. E8-17537 Filed 7-31-08; 8:45 am]

BILLING CODE 4311-AM-P